DEPARTMENT OF THE INTERIOR

National Park Service

National Register of Historic Places; Notification of Pending Nominations

Nominations for the following properties being considered for listing in the National Register were received by the National Park Service before January 31, 2004. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, (202) 371-6447. Written or faxed comments should be submitted by March 1, 2004.

Carol D. Shull,
Keeper of the National Register of Historic Places.

ARIZONA

Gila County

Miller, Pryor, House, 3800 AZ 87, Pine, 04000146

Navajo County

Brimhall, Norman, House, 210 S. Main St., Taylor, 04000137

Palmer, A.Z., House, 26 E. Center, Taylor, 04000139

Palmer, Jordan, House, 101 S. Main St., Taylor, 04000136

Standifird, Aquilla, House, 306 S. Main St., Taylor, 04000138

CALIFORNIA

Los Angeles County

Southwest Museum, 234 Museum Dr., Los Angeles, 04000185

Siskiyou County

Edgewood Store, 24505 Edgewood Rd., Edgewood, 04000140

DISTRICT OF COLUMBIA

District of Columbia

Dumbarton Oaks Park, Entrance from Lovers Ln, off R St. bet. 31st and 32nd Sts, Washington, 04000141

FLORIDA

Flagler County

Mala Compra Plantation Archeological Site, 5880 N. Oceanshore Blvd., Palm Coast, 04000142

Lake County

Purdy Villa, 3045 Eudora Rd., Eustis, 04000143

ILLINOIS

Adams County

Lock and Dam No. 21 Historic District, (Upper Mississippi River 9-Foot Navigation Project MPS) 0.5 mi. W oif IL 57, Quincy, 04000181

Brown County

La Grange Lock and Dam Historic District, (Illinois Waterway Navigation System Facilities MPS) 0.75 mi. S of Cty Rte 795N at Illinois River, Versailles, 04000170

Champaign County

Lincoln (Statue), 1000 Blk of S. Race St., Urbana, 04000144

Grundy County

Dresden Island Lock and Dam Historic District, (Illinois Waterway Navigation System Facilities MPS) 7521 N. Lock Rd., Morris, 04000164

Henderson County

Lock and Dam No. 18 Historic District, (Upper Mississippi River 9-Foot Navigation Project MPS) 1.5 mi. N of unnamed cty rd. from Gladstone, Gladstone, 04000178

La Salle County

Marseilles Lock and Dam Historic District, (Illinois Waterway Navigation System Facilities MPS) 1 Hawk Dr., Marseilles, 04000165

Starved Rock Lock and Dam Historic District, (Illinois Waterway Navigation System Facilities MPS) 950 N 27th Rd., Ottawa, 04000166

Mercer County

Lock and Dam No. 17 Historic District, (Upper Mississippi River 9-Foot Navigation Project MPS) 173 Lock and Dam Rd., New Boston, 04000177

Peoria County

Illinois Waterway Project Office, (Illinois Waterway Navigation System Facilities MPS) 257 Grant St., Peoria, 04000168

Rock Island County

Lock and Dam No. 15 Historic District, (Upper Mississippi River 9-Foot Navigation Project MPS) NW of Rodman Ave., Twd., NW tip Arsenal Island, Rock Island, 04000175

Tazewell County

Peoria Lock and Dam Historic District, (Illinois Waterway Navigation System Facilities MPS) 1071 Wesley Rd., Creve Coeur, 04000169

Whiteside County

Lock and Dam No. 13 Historic District, (Upper Mississippi River 9-Foot Navigation Project MPS) 4999 Lock Rd., Fulton, 04000173

Will County

Brandon Road Lock and Dam Historic District, (Illinois Waterway Navigation System Facilities MPS) 1100 Brandon Rd., Joliet, 04000163

Lockport Lock, Dam and Power House Historic District, (Illinois Waterway Navigation System Facilities MPS) 2502 Channel Dr., Lockport, 04000167

IOWA

Dubuque County

Lock and Dam No. 11 Historic District, (Upper Mississippi River 9-Foot Navigation Project MPS) 11 Lime St., Dubuque, 04000171

Jackson County

Lick and Dam No. 12 Historic District, (Upper Mississippi River 9-Foot Navigation Project MPS) 401 N. Riverview St., Bellavue, 04000172

Lee County

Lock and Dam No. 19 Historic District, (Upper Mississippi River 9-Foot Navigation Project MPS) 525 N. Water St., Keokuk, 04000179

Muscatine County

Lock and Dam No. 16 Historic District, (Upper Mississippi River 9-Foot Navigation Project MPS) 33109 102nd Ave. W, Muscatine, 04000176

Scott County

Lock and Dam No. 14 Historic District, (Upper Mississippi River 9-Foot Navigation Project MPS) 25549 182nd St., Pleasant Valley, 04000174

LOUISIANA

Morehouse Parish

Mer Roughe High School, 500 S. 14 St., Mer Rouge, 04000145

MISSOURI

Lewis County

Lock and Dam No. 20 Historic District, (Upper Mississippi River 9-Foot Navigation Project MPS) 0.5 mi. N of Henderson St., Canton, 04000180

Lincoln County

Lock and Dam No. 25 Historic District, (Upper Mississippi River 9-Foot Navigation Project MPS) 10 Sandy Slough Rd., Winfield, 04000184

Pike County

Lock and Dam No. 24 Historic District, (Upper Mississippi River 9-Foot Navigation Project MPS) 350 N. First St., Clarksville, 04000183

Ralls County

Lock and Dam No. 22 Historic District, (Upper Mississippi River 9-Foot Navigation Project MPS) Secondary Rd. E, New London, 04000182

NEW HAMPSHIRE

Hillsborough County

Sullivan, Roger, House, 168 Walnut St., Manshester, 04000150

Merrimack County

Pineground Bridge, 0.15 mi. E of NH 28 on Depot Rd., Chichester, 04000149

NEW JERSEY

Monmouth County

Water Witch Club Historic District, Roughly bounded by NJ 36, Water Wich Dr., Sea View Terrace, Park Way, Windlass Path and Serpentine Dr., Middletown Township, 04000147

NORTH CAROLINA

Carteret County

Queen Anne's Revenge, Address Restricted, Atlantic Beach, 04000148

OHIO

Highland County

New Market Township Community House, 4641 U.S. 62, Hillsboro, 04000151

TENNESSEE

Cocke County

Neas Farm, 3301 Sable Rd., Parrottsville, 04000152

Knox County

Southern Terminal and Warehouse Historic District (Boundary Increase), 100 N Broadway and 525 W. Jackson Ave., Knoxville, 04000153

TEXAS

Washington County

Brenham Downtown Historic District, (Brenham MPS) Roughly bounded W. Vulcan, E. Vulcan, South Market, West First, Bassett, S. Austin and N. Austin, Brenham, 04000154

VERMONT

Caledonia County

Downtown Hardwick Village Historic District (Boundary Increase), Brush St., Hardwick, 04000161

VIRGINIA

Clarke County

Boyce Historic District, Includes Crescent Sts., Greenway Ave., Huntingdon Ln., Main St. Old Chapel Ave., Railroad Ln., Saratoga, VA, and Whiting Boyce, 04000155

Stafford County

Conway House, 305 King St., Falmouth, 04000162

WASHINGTON

King County

Jovita Land Company Model Home—Corbett House, 4600 S. 364th St., Federal Way, 04000158

Kitsap County

Shelbanks, 1520 Shorewood Dr., Bremerton, 04000160

Spokane County

Corbin, Daniel C. and Anna, House, 507 W. Seventh Ave., Spokane, 04000157

Thurston County

Rainier School, (Rural Public Schools of Washington State MPS) Jct. of Algyers St. and Centre Sts., Rainier, 04000159

WISCONSIN

Oneida County

Indianapolis Outing Club, 7371 Wheeler Island Rd., Three Lakes, 04000156

[FR Doc. 04-3140 Filed 2-12-04; 8:45 am]

BILLING CODE 4312-51-P